DEPARTMENT OF HEALTH AND HUMAN SERVICES

Centers for Disease Control and Prevention

[60Day-02-21]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Project

Qualitative Study of Young Men's Perceptions of An HIV Prevention Intervention—New—1—National Center for HIV, STD and TB Prevention (NCHSTP), Centers for Disease Control and Prevention (CDC). CDC proposes to conduct a formative research study to examine how a CDC-funded, community-level HIV intervention study is perceived by, and has affected the lives of, the target population, young men ages 15-25. The goal of the study is to gain a better understanding of the relevance of an HIV prevention intervention to young men in three communities: Milwaukee, Wisconsin; Orange County, California; and West Hollywood, California.

A total of 90 young men will be interviewed; 30 from each of the three communities. Of the 30 participants selected for the study; 15 of them will have participated in an HIV intervention activity and 15 participants will not have participated in activity. CDC plans to recruit a total of 50 participants from local venues and screened them to determine eligibility for participation in the study. The objectives of the study will be to (1) explore how young men who have participated in HIV intervention activities have incorporated the knowledge and experience gained from their participation into their daily lives and (2) identify structural barriers to HIV prevention intervention activities. All participants will be interviewed by CDC staff. Each interview is estimated to take approximately 90 minutes to complete. In addition, screening of eligible participants for recruitment in the study is estimated to take approximately 15 minutes.

There are no costs to respondents.

Respondents | Number of respondents | Number of responses per respondents | Average response/ burden (in hours) | Total burden (in hours)
Eligibility screening | 150 | 1 | 15/60 | 38
Target population | 90 | 1 | 90/60 | 135
Total |  |  |  | 173

Dated: December 27, 2001.
Kathy Cahill,
Associate Director for Policy, Planning and Evaluation, Centers for Disease Control and Prevention.

[FR Doc. 02-197 Filed 1-3-02; 8:45 am]

BILLING CODE 4163-18-P